DEPARTMENT OF ENERGY

Federal Energy Regulatory Commission

[Project No. 14356-000]

Nushagak Electric and Telephone Cooperative, Inc.; Notice of Preliminary Permit Application Accepted for Filing and Soliciting Comments, Motions To Intervene, and Competing Applications

On January 25, 2012, the Nushagak Electric and Telephone Cooperative, Inc. filed an application for a preliminary permit, pursuant to section 4(f) of the Federal Power Act (FPA), proposing to study the feasibility of the Dillingham Area Hydroelectric Project (Dillingham Project or project) to be located on Elva Creek and Grant River, near the town of Dillingham, Bristol Bay Borough, Alaska. The sole purpose of a preliminary permit, if issued, is to grant the permit holder priority to file a license application during the permit term. A preliminary permit does not authorize the permit holder to perform any land-disturbing activities or otherwise enter upon lands or waters owned by others without the owners' express permission.

The proposed project has two developments. The total installed capacity of both developments would be 3.2 megawatts (MW) and the total estimated annual generation of the Dillingham Project would be 20.057 gigawatt-hours (GWh).

Lake Elva Development

The proposed project would consist of the following: (1) A 50-foot-long, 10-foot-high rock-fill diversion dam constructed on the outlet of Lake Elva; (2) a 4,100-foot-long, 4-foot-diameter lake tap pipeline; (3) a 3,200-foot-long, 3- to 3.5-foot-diameter penstock leading from the lake tap pipeline to the powerhouse; (4) a powerhouse containing two 0.75-MW Francis turbine/generator units; (5) a 40-foot-long, 20-foot-wide tailrace discharging flows from the powerhouse into Elva Creek; (6) a 49-mile-long, 34.5-kilovolt (kV) transmission line extending from the project powerhouse to a new substation approximately 5 miles north of Dillingham; (7) an approximately 3-mile-long access road; and (8) appurtenant facilities. The estimated annual generation of the Lake Elva development would be 7.927 GWh.

Grant Lake Development

The proposed project would consist of the following: (1) A 900-foot-long, 20-foot-high rock-fill diversion dam constructed on the outlet of Grant Lake (main dam); (2) a 1-mile-long, 20-foot-high diversion canal excavated approximately 1 mile north of the main dam; (3) a 300-foot-long, 20-foot-high rock-fill diversion dam constructed at the terminus of the diversion canal; (4) an intake structure on the diversion dam leading to a 5,000-foot-long, 5-foot-diameter pipeline; (5) a 3,100-foot-long, 4-foot-diameter penstock leading from the pipeline to the powerhouse; (6) a powerhouse containing a 1.7-MW Turgo turbine/generator unit; (7) a 40-foot-long, 20-foot-wide tailrace discharging flows from the powerhouse into Grant River; (8) a 46-mile-long, 34.5-kV transmission line extending from the project powerhouse to a new substation approximately 5 miles north of Dillingham; (9) an approximately 2.5-mile-long access road; and (10) appurtenant facilities. The estimated annual generation of the Grant Lake development would be 12.13 GWh.

Applicant Contact: Mr. Mike Megli, CEO/General Manager, Nushagak Electric & Telephone Cooperative, Inc., 557 Kenny Wren Road, P.O. Box 350, Dillingham, AK 99576; phone: (907) 842-6315.

FERC Contact: Jennifer Harper; phone: (202) 502-6136.

Deadline for filing comments, motions to intervene, competing applications (without notices of intent), or notices of intent to file competing applications: 60 days from the issuance of this notice. Competing applications and notices of intent must meet the requirements of 18 CFR 4.36. Comments, motions to intervene, notices of intent, and competing applications may be filed electronically via the Internet. See 18 CFR 385.2001(a)(1)(iii) and the instructions on the Commission's Web site http://www.ferc.gov/docs-filing/efiling.asp. Commenters can submit brief comments up to 6,000 characters, without prior registration, using the eComment system at http://www.ferc.gov/docs-filing/ecomment.asp. You must include your name and contact information at the end of your comments. For assistance, please contact FERC Online Support at FERCOnlineSupport@ferc.gov or toll free at 1-866-208-3676, or for TTY, (202) 502-8659. Although the Commission strongly encourages electronic filing, documents may also be paper-filed. To paper-file, mail an original and seven copies to: Kimberly D. Bose, Secretary, Federal Energy Regulatory Commission, 888 First Street NE., Washington, DC 20426.

More information about this project, including a copy of the application, can be viewed or printed on the “eLibrary” link of Commission's Web site at http://www.ferc.gov/docs-filing/elibrary.asp. Enter the docket number (P-14356) in the docket number field to access the document. For assistance, contact FERC Online Support.

Dated: February 16, 2012.
Kimberly D. Bose,
Secretary.

[FR Doc. 2012-4404 Filed 2-24-12; 8:45 am]

BILLING CODE 6717-01-P